DEPARTMENT OF TRANSPORTATION

Office of the Secretary

Aviation Proceedings, Agreements Filed During the Week Ending November 1, 2002

The following Agreements were filed with the Department of Transportation under the provisions of 49 U.S.C. 412 and 414. Answers may be filed within 21 days after the filing of the application.

Docket Number: OST-2002-13694.

Date Filed: October 28, 2002.

Parties: Members of the International Air Transport Association.

Subject:

PTC123 0202 dated September 16, 2002

Mail Vote 240—TC123 Mid Atlantic Resolutions r1-r6

PTC123 0211 dated October 11, 2002 (Affirmative)

PTC123 0203 dated September 16, 2002

Mail Vote 241—TC123 South Atlantic Resolutions r7-r19

PTC123 0212 dated October 11, 2002 (Affirmative)

Minutes—PTC123 0217 dated October 22, 2002

Fares—PTC123 Fares 0073 dated October 11, 2002

PTC123 Fares 0077 dated October 15, 2002 (Technical Correction)

PTC123 Fares 0074 dated October 15, 2002

Intended effective date: March 1, 2003

Docket Number: OST-2002-13709.

Date Filed: October 29, 2002.

Parties: Members of the International Air Transport Association.

Subject:

CBPP/10/Meet/004/2002 dated October 1, 2002

Finally Adopted Resolution 686 r1

Minutes—CBPP/10/Meet/003/2002 dated September 25, 2002

Intended effective date: December 1, 2002

Docket Number: OST-2002-13710.

Date Filed: October 29, 2002.

Parties: Members of the International Air Transport Association.

Subject:

Mail Vote 245

PTC23 ME-TC3 0153 dated October 4, 2002

TC23/TC123 Middle East-South East Asia

Special Passenger Amending Resolution 010d

PTC23 ME-TC3 0158 dated October 29, 2002 (Affirmative)

Intended effective date: November 15, 2002

Docket Number: OST-02-13711.

Date Filed: October 29, 2002.

Parties: Members of the International Air Transport Association.

Subject:

PTC23 EUR-JK 0088 dated October 15, 2002

Europe-Japan/Korea Resolutions r1-r28

Minutes—PTC23 EUR-JK 0089 dated October 25, 2002

Tables—PTC23 EUR-JK Fares 0041 dated October 15, 2002

Intended effective date: April 1, 2003

Docket Number: OST-02-13722.

Date Filed: October 30, 2002.

Parties: Members of the International Air Transport Association.

Subject:

PTC23 ME-TC3 0156 dated October 11, 2002

TC23/TC123 Middle East-TC3 (except South East Asia)

Resolutions r1-r37

Minutes—PTC23 ME-TC3 0157 dated October 15, 2002

Tables—PTC23 ME-TC3 FARES 0063 dated October 18, 2002

Intended effective date: April 1, 2003

Docket Number: OST-02-13726.

Date Filed: October 30, 2002.

Parties: Members of the International Air Transport Association.

Subject:

PTC23 EUR-SWP 0070 dated October 29, 2002.

Europe-South West Pacific Expedited Resolutions r1-r3

Intended effective date: December 15, 2002

Dorothy Y. Beard,
Federal Register Liaison.

[FR Doc. 02-28969 Filed 11-14-02; 8:45 am]

BILLING CODE 4910-62-P